INTERNATIONAL TRADE COMMISSION

[Investigation Nos. 701-TA-589 and 731-TA-1394-1396 (Review)]

Forged Steel Fittings From China, Italy, and Taiwan

Determinations

On the basis of the record ¹ developed in the subject five-year reviews, the United States International Trade Commission (“Commission”) determines, pursuant to the Tariff Act of 1930 (“the Act”), that revocation of the countervailing duty order on forged steel fittings from China and the antidumping duty orders on forged steel fittings from China, Italy, and Taiwan would be likely to lead to continuation or recurrence of material injury to an industry in the United States within a reasonably foreseeable time.²

¹ The record is defined in § 207.2(f) of the Commission's Rules of Practice and Procedure (19 CFR 207.2(f)).

² Commissioner Jason E. Kearns not participating.

Background

The Commission instituted these reviews on August 1, 2023 (88 FR 50172) and determined on November 6, 2023 that it would conduct expedited reviews (88 FR 84361, December 5, 2023).

The Commission made these determinations pursuant to section 751(c) of the Act (19 U.S.C. 1675(c)). It completed and filed its determinations in these reviews on January 26, 2024. The views of the Commission are contained in USITC Publication 5486 (January 2024), entitled Forged Steel Fittings from China, Italy, and Taiwan: Investigation Nos. 701-TA-589 and 731-TA-1394-1396 (Review).

By order of the Commission.
Issued: January 26, 2024.
Lisa Barton,
Secretary to the Commission.

[FR Doc. 2024-01929 Filed 1-30-24; 8:45 am]

BILLING CODE 7020-02-P